DEPARTMENT OF THE INTERIOR

Fish and Wildlife Service

Notice of Issuance of Five Permits for Incidental Take of Threatened and Endangered Species.

SUMMARY: Between October 1, 1999, and March 31, 2000, Region 2 of the Fish and Wildlife Service issued five permits for the incidental take of threatened and endangered species, pursuant to section 10(a)(1)(B) of the Endangered Species Act of 1973 (Act), as amended. Of the five permits issued, three are for the golden-cheeked warbler (GCW) and two are for the Houston toad (HT), and all are issued to Permittees in the greater Austin, Texas area. Copies of the five permits and associated decision documents are available upon request. In addition, between October 1, 1999 and March 31, 2000, one permit had a minor administrative amendment.

ADDRESSES: If you would like copies of any of the above documents, please contact the U.S. Fish and Wildlife Service, Ecological Services, P.O. Box 1306, Albuquerque, New Mexico.

FOR FURTHER INFORMATION CONTACT: Leslie Dierauf, Regional Habitat Conservation Plan Coordinator, at the above address, 505-248-6651. Further details of these permits may also be viewed on the Internet at http://ecos.fws.gov.

SUPPLEMENTARY INFORMATION: Section 9 of the Act and Federal Regulation prohibits the “take” of wildlife species listed as threatened or endangered species. Under the Act, the term “take” means to harass, harm, pursue, hunt, shoot, wound, kill, trap, capture, or collect listed wildlife, or to attempt to engage in any such conduct. The Service may, under limited circumstances, issue permits to authorize incidental take, i.e. that is incidental to, and not the purpose of, the carrying out of an otherwise lawful activity. Regulations governing permits for endangered species are at 50 CFR 17.22.

Five Incidental Take Permits Issued
Permittee | Permit No. | Date of Issuance
David C. Anderson (TX), GCW | TE-019709-0 | 02/04/00
Tamera M. Smith (TX), HT | TE-020079-0 | 02/22/00
Shelby D. Gregory (TX), HT | TE-020080-0 | 02/22/00
Brent Mayberry (TX), GCW | TE-012963-0 | 12/15/99
Anthony J. Franzetti (TX), GCW | TE-016491-0 | 01/20/00

One Administrative Amendment
Permittee | Permit No. | Date of amendment
Spicewood at Bull Creek Amendment #4 | PRT-783564 | 03/02/00

Geoffrey L. Haskett,
Regional Director, Region 2, Albuquerque, New Mexico.

[FR Doc. 00-9958 Filed 4-20-00; 8:45 am]

BILLING CODE 4510-55-P